DEPARTMENT OF ENERGY

Federal Energy Regulatory Commission

[Project No. 14775-005]

Marine Renewable Energy Collaborative of New England; Notice of Intent To Prepare an Environmental Assessment

On June 1, 2023, Marine Renewable Energy Collaborative of New England filed an application for a hydrokinetic pilot project license to connect the existing Bourne Tidal Hydrokinetic Test Site (project) to the power grid. The project would be located in the Cape Cod Canal near the Town of Bourne, in Barnstable County, Massachusetts. The project would be within the boundary of the Cape Cod Canal Navigation Project, which is administered by the U.S. Army Corps of Engineers.

In accordance with the Commission's regulations, on June 16, 2023, Commission staff issued a notice that the project was ready for environmental analysis (REA notice). Based on the information in the record, including comments filed on the REA notice, staff does not anticipate that licensing the project would constitute a major Federal action significantly affecting the quality of the human environment. Therefore, staff intends to prepare an Environmental Assessment (EA) on the application to license the project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The application will be processed according to the following schedule. Revisions to the schedule may be made as appropriate.

Milestone | Target date
Commission issues EA | September 2023 ¹
Comments on EA | October 2023
¹ The Council on Environmental Quality's (CEQ) regulations under 40 CFR 1501.10(b)(1) require that EAs be completed within 1 year of the Federal action agency's decision to prepare an EA. This notice establishes the Commission's intent to prepare an EA for the Bourne Tidal Hydrokinetic Test Site Project. Therefore, in accordance with CEQ's regulations, the EA must be issued within 1 year of the issuance date of this notice.

Dated: July 31, 2023.
Kimberly D. Bose,
Secretary.

[FR Doc. 2023-16707 Filed 8-4-23; 8:45 am]

BILLING CODE 6717-01-P